DEPARTMENT OF EDUCATION

Office of Elementary and Secondary Education; Overview Information, William F. Goodling Even Start Family Literacy Programs—Grants for Indian Tribes and Tribal Organizations; Notice Inviting Applications for New Awards in Fiscal Year (FY) 2005

Catalog of Federal Domestic Assistance (CFDA) Number: 84.258A.

DATES: Applications Available: February 18, 2005.

Deadline for Transmittal of Applications: April 11, 2005.

Eligible Applicants: Federally recognized Indian tribes and tribal organizations. Applicable definitions of the terms “Indian tribe” and “tribal organization” are in section 4 of the Indian Self-Determination and Education Assistance Act, 25 U.S.C. 450b.

Estimated Available Funds: $4,975,000. Contingent upon the availability of funds and quality of applications we may make additional awards in subsequent years from the list of unfunded applicants from this competition.

Estimated Range of Awards: $150,000-$250,000 per year.

Estimated Average Size of Awards: $200,000 per year.

Estimated Number of Awards: 20-33.

Note: The Department is not bound by any estimates in this notice.

Project Period: Up to 48 months.

Full Text of Announcement

I. Funding Opportunity Description

Purpose of Program: The William F. Goodling Even Start Family Literacy Programs (Even Start), including the grants for Indian tribes and tribal organizations, are intended to help break the cycle of poverty and illiteracy by improving the educational opportunities of low-income families by integrating early childhood education, adult literacy or adult basic education, and parenting education into a unified family literacy program. These programs are implemented through cooperative activities that: build on high-quality existing community resources to create a new range of educational services for most-in-need families; promote the academic achievement of children and adults; assist children from low-income families to meet challenging State content and student achievement standards; and use instructional programs that are based on scientifically based reading research and on the prevention of reading difficulties for children and adults, to the extent such research is available. A description of the required fifteen program elements for which funds must be used is included in the application package.

Priorities: Under this competition we are particularly interested in applications that address the following invitational priorities.

Invitational Priorities: For FY 2005 and any subsequent year in which we make awards from the list of unfunded applicants from this competition, these priorities are invitational priorities. Under 34 CFR 75.105(c)(1) we do not give an application that meets these invitational priorities a competitive or absolute preference over other applications.

These priorities are:

Invitational Priority 1—Early Childhood Education Service in a Group Setting

The Secretary is especially interested in programs that offer center-based early childhood education services.

The research in early childhood education shows that educational services for young children that are provided in a center are more likely to be intensive and, therefore, more likely to result in significant learning outcomes than non-center-based services. For example, the Third National Even Start Evaluation showed that children who participated more intensively in early childhood education scored higher on standardized literacy skills. A center is defined, for the purpose of this competition, as a place where early childhood educational services can be provided to a group of children from multiple households.

Invitational Priority 2—Early Childhood Education Services Provided for Minimum of a 3-year Age Range

The Secretary is especially interested in Even Start tribal projects that provide early childhood education services for children for at least a 3-year age range, which may begin at birth, in order to enhance the early language, literacy, and early reading development of preschool-age children.

Under the statutory requirements that apply to the State-administered Even Start Family Literacy program, local programs must serve a 3-year age range of children, which may begin at birth. This priority would encourage tribal Even Start programs to serve a similar age range in order to enhance early language, literacy, and early reading development of preschool-age children.

Program Authority: 20 U.S.C. 6381a(a)(1)(C).

Applicable Regulations: The Education Department General Administrative Regulations (EDGAR) in 34 CFR parts 75, 77, 80, 81, 82, 84, 85, 86, 97, 98, and 99.

Note: The regulations in 34 CFR part 86 apply to institutions of higher education only.

II. Award Information

Type of Award: Discretionary grant.

Estimated Available Funds: $4,975,000. Contingent upon the availability of funds and quality of applications we may make additional awards in subsequent years from the list of unfunded applicants from this competition.

Estimated Range of Awards: $150,000-$250,000 per year.

Estimated Average Size of Awards: $200,000 per year.

Estimated Number of Awards: 20-33.

Note: The Department is not bound by any estimates in this notice.

Project Period: Up to 48 months.

III. Eligibility Information

1. Eligible Applicants: Federally recognized Indian tribes and tribal organizations. Applicable definitions of the terms “Indian tribe” and “tribal organization” are in section 4 of the Indian Self-Determination and Education Assistance Act, 25 U.S.C. 450b.

2. Cost Sharing or Matching: Cost sharing requirements for these grants are detailed in section 1234(b) of the Elementary and Secondary Education Act of 1965, as amended by the No Child Left Behind Act of 2001 (ESEA).

3. Other: In general, a family is eligible to participate in an Even Start project for Indian tribes and tribal organizations if they qualify under the following requirements: (a) the parent(s) is eligible to participate in adult education and literacy activities under the Adult Education and Family Literacy Act, the parent(s) is within the State's compulsory school attendance age range (in which case a local educational agency must provide or ensure the availability of the basic education component), or the parent(s) is attending secondary school; and (b) the child (or children) is younger than eight years of age. More specific information on family eligibility is contained in section 1236 of the ESEA.

IV. Application and Submission Information

1. Address to Request Application Package: You may obtain an application package via the Internet or from the Education Publications Center (ED Pubs). To obtain an application via the Internet, use the following address: http://www.ed.gov/programs/evenstartindian/applicant.html. To obtain a copy from ED Pubs, write or call the following: Education Publications Center, P.O. Box 1398, Jessup, MD 20794-1398. Telephone (toll free): 1-877-433-7827. Fax: (301) 470-1244. If you use a telecommunications device for the deaf (TDD), you may call (toll-free): 1-800-576-7734.

You may also contact ED Pubs at its Web site: http://www.ed.gov/pubs/edpubs.html or you may contact ED Pubs at its e-mail address: edpubs@inet.ed.gov.

If you request an application package from ED Pubs, be sure to identify this competition as follows: CFDA number 84.258A.

Individuals with disabilities may obtain a copy of the application package in an alternative format (e.g., Braille, large print, audiotape, or computer diskette) by contacting the program contact person listed in section VII of this notice.

2. Content and Form of Application Submission: Requirements concerning the content of the application, together with the forms you must submit, are in the application package for this competition.

Page and Appendices Limits: The application narrative (Part III of the application) is where you, the applicant, address the selection criteria that reviewers use to evaluate your application. You must limit the narrative in Part III of the application to the equivalent of no more than 25 typed pages. Part IV of the application is where you, the applicant, provide a budget narrative that reviewers use to evaluate your application. You must limit the budget narrative in Part IV of the application to the equivalent of no more than 3 typed pages. For all page limits, use the following standards:

• The page limits do not apply to: the cover sheet; the one-page abstract; the budget forms; assurances and certifications (included in Section E of the application package); and the endnotes included as an Appendix for Part III of your application (see section C of the application package).

• A “page” is 8.5″ x 11″, on one side only, with 1″ margins at the top, bottom, and both sides.

• Double space (no more than three lines per vertical inch) all text in the application and budget narratives, including titles, headings, footnotes, quotations, references, and captions. Text in tables, charts, graphs, and the limited Appendices may be single spaced.

• Use a font that is either 12 point or larger or no smaller than 10 pitch (characters per inch). You may use other point fonts for any tables, charts, graphs, and the limited Appendices, but those tables, charts, graphs and limited Appendices should be in a font size that is easily readable by the reviewers of your application.

• Any tables, charts, or graphs are included in the overall application narrative and budget narrative page limits. The limited Appendices are not part of these page limits.

• Appendices are limited to the following: the curriculum vitae or position descriptions of no more than 5 people (including key contract personnel and consultants); and endnote citations of no more than 2 pages for the scientifically based reading research upon which your instructional programs are based.

• Other application materials are limited to the specific materials indicated in the application package and may not include any video or other non-print materials.

Our reviewers will not read any pages of your application that—

• Exceed the page limits if you apply these standards; or

• Exceed the equivalent of the page limits if you apply other standards.

In addition, our reviewers will not read or view any Appendices or enclosures (including non-print materials such as videotapes or CDs) other than those described in this notice and the application package.

3. Submission Dates and Times:

Applications Available: February 18, 2005.

Deadline for Transmittal of Applications: April 11, 2005.

Applications for grants under this program may be submitted electronically using the Electronic Grant Application System (e-Application) accessible through the Department's e-Grants system, or in paper format by mail or hand delivery. For information (including dates and times) about how to submit your application electronically, or by mail or hand delivery, please refer to section IV. 6. Other Submission Requirements in this notice.

We do not consider an application that does not comply with the deadline requirements.

4. Intergovernmental Review: This program is not subject to Executive Order 12372 and the regulations in 34 CFR part 79.

5. Funding Restrictions: Recipients of an Even Start Indian tribe and tribal organization grant may not use funds awarded under this competition for the indirect costs of a project, or claim indirect costs as part of the local project share. (Section 1234(b)(3) of the ESEA) Grant recipients may request that the Secretary waive this requirement under appropriate circumstances. To obtain a waiver, a recipient must demonstrate to the Secretary's satisfaction that the recipient otherwise would not be able to participate in the Even Start program. (Section 1234(b)(2) of the ESEA.) Information about requesting a waiver is in the application package. We reference regulations outlining additional funding restrictions in the Applicable Regulations section of this notice.

6. Other Submission Requirements: Applications for grants under this program may be submitted electronically or in paper format by mail or hand delivery.

a. Electronic Submission of Applications. If you submit your application to us electronically, you must use e-Application available through the Department's e-Grants system, accessible through the e-Grants portal page at: http://e-grants.ed.gov.

While completing your electronic application, you will be entering data online that will be saved into a database. You may not e-mail an electronic copy of a grant application to us.

Please note the following:

• Your participation in e-Application is voluntary.

• You must complete the electronic submission of your grant application by 4:30 p.m., Washington, DC time, on the application deadline date. The e-Application system will not accept an application for this competition after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you submit your application in paper format.

• You must submit all documents electronically, including the Application for Federal Education Assistance (ED 424), Budget Information—Non-Construction Programs (ED 524), and all necessary assurances and certifications.

• Any narrative sections of your application should be attached as files in a .DOC (document), .RTF (rich text), or .PDF (Portable Document) format.

• Your electronic application must comply with any page limit requirements described in this notice.

• Prior to submitting your electronic application, you may wish to print a copy of it for your records.

• After you electronically submit your application, you will receive an automatic acknowledgement that will include a PR/Award number (an identifying number unique to your application).

• Within three working days after submitting your electronic application, fax a signed copy of the ED 424 to the Application Control Center after following these steps:

1. Print ED 424 from e-Application.

2. The applicant's Authorizing Representative must sign this form.

3. Place the PR/Award number in the upper right hand corner of the hard-copy signature page of the ED 424.

4. Fax the signed ED 424 to the Application Control

Center at (202) 245-6272.

• We may request that you provide us original signatures on other forms at a later date.

Application Deadline Date Extension in Case of System Unavailability: If you are prevented from electronically submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under FOR FURTHER INFORMATION CONTACT (see section VII. Agency Contact) or (2) the e-Grants help desk at 1-888-336-8930. If the system is down and therefore the application deadline is extended, an e-mail will be sent to all registered users who have initiated an e-Application.

Extensions referred to in this section apply only to the unavailability of the Department's e-Application system. If the e-Application system is available, and, for any reason, you are unable to submit your application electronically or you do not receive an automatic acknowledgement of your submission, you may submit your application in paper format by mail or hand delivery in accordance with the instructions in this notice.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.258A), 400 Maryland Avenue, SW., Washington, DC 20202-4260; or

By mail through a commercial carrier: U.S. Department of Education, Application Control Center—Stop 4260, Attention: (CFDA Number 84.258A), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address:

U.S. Department of Education, Application Control Center, Attention: (CFDA Number 84.258A), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

1. You must indicate on the envelope and—if not provided by the Department—in Item 4 of the ED 424 the CFDA number—and suffix letter, if any—of the competition under which you are submitting your application.

2. The Application Control Center will mail a grant application receipt acknowledgment to you. If you do not receive the grant application receipt acknowledgement within 15 business days from the application deadline date, you should call the U.S. Department of Education Application Control Center at (202) 245-6288.

V. Application Review Information

1. Selection Criteria: The following selection criteria for this competition are from 34 CFR 75.210 of EDGAR. Further information about each of these selection criteria is in the application package. The maximum score for each criterion is indicated in parentheses after each criterion.

(a) Quality of the project design. (30 points) The Secretary considers the quality of the design of the proposed project. In determining the quality of the design of the proposed project, the Secretary considers the following factors:

(1) The extent to which the design of the proposed project is appropriate to, and will successfully address, the needs of the target population or other identified needs. (34 CFR 75.210(c)(2)(ii))

(2) The extent to which the design of the proposed project reflects up-to-date knowledge from research and effective practice. (34 CFR 75.210(c)(2)(xiii))

(3) The extent to which the proposed project will establish linkages with other appropriate agencies and organizations providing services to the target population. (34 CFR 75.210(c)(2)(xvii))

(b) Quality of project services. (25 points) The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. (34 CFR 75.210(d)(2)) In addition, the Secretary considers the following factors:

(1) The extent to which the training or professional development services to be provided by the proposed project are of sufficient quality, intensity, and duration to lead to improvements in practice among the recipients of those services. (34 CFR 75.210(d)(3)(v))

(2) The likelihood that the services to be provided by the proposed project will lead to improvements in the achievement of students as measured against rigorous academic standards. (34 CFR 75.210(d)(3)(vii))

(3) The extent to which the services to be provided by the proposed project involve the collaboration of appropriate partners for maximizing the effectiveness of project services. (34 CFR 75.210(d)(3)(ix))

(c) Quality of project personnel. (10 points) The Secretary considers the quality of the personnel who will carry out the proposed project. In determining the quality of project personnel, the Secretary considers the extent to which the applicant encourages applications for employment from persons who are members of groups that have traditionally been underrepresented based on race, color, national origin, gender, age, or disability. (34 CFR 75.210(e)(2)) In addition, the Secretary considers the following factors:

(1) The qualifications, including relevant training and experience, of the project director or principal investigator. (34 CFR 75.210(e)(3)(i))

(2) The qualifications, including relevant training and experience, of key project personnel. (34 CFR 75.210(e)(3)(ii))

(3) The qualifications, including relevant training and experience, of project consultants or subcontractors. (34 CFR 75.210(e)(2)(iii))

(d) Adequacy of resources. (10 points) The Secretary considers the adequacy of resources for the proposed project. In determining the adequacy of resources for the proposed project, the Secretary considers the following factors:

(1) The adequacy of support, including facilities, equipment, supplies, and other resources, from the applicant organization or the lead applicant organization. (34 CFR 75.210(f)(2)(i))

(2) The extent to which the budget is adequate to support the proposed project. (34 CFR 75.210(f)(2)(iii))

(e) Quality of the management plan. (10 points) The Secretary considers the quality of the management plan for the proposed project. In determining the quality of the management plan for the proposed project, the Secretary considers the adequacy of the management plan to achieve the objectives of the proposed project on time and within budget, including clearly defined responsibilities, timelines, and milestones for accomplishing project tasks. (34 CFR 75.210(g)(2)(i))

(f) Quality of the project evaluation. (15 points) The Secretary considers the quality of the evaluation to be conducted of the proposed project. In determining the quality of the evaluation, the Secretary considers the following factors:

(1) The extent to which the methods of evaluation are thorough, feasible, and appropriate to the goals, objectives, and outcomes of the proposed project. (34 CFR 75.210(h)(2)(i))

(2) The extent to which the methods of evaluation will provide performance feedback and permit periodic assessment of progress toward achieving intended outcomes. (34 CFR 75.210(h)(2)(vi))

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. For specific requirements on grantee reporting, please go to: http://www.ed.gov/fund/grant/apply/appforms/appforms.html.

4. Performance Measures: Under the Government Performance and Results Act (GPRA), the Secretary has established the following measures for evaluating the overall effectiveness of the Even Start program, which Tribal Even Start projects are expected to use: (1) Percentage of adults who achieve significant learning gains on measures of literacy, and percentage of limited English proficient (LEP) adults who achieve significant learning gains on measures of English language acquisition, as measured by the Comprehensive Adult Student Assessment System (CASAS) or the Tests of Adult Basic Education (TABE); (2) percentage of Even Start adults with a high school completion goal or a percentage of those with a General Equivalency Diploma (GED) attainment goal who earn a high school diploma or equivalent; (3) percentage of Even Start children entering kindergarten who demonstrate age-appropriate development of receptive language as measured by the Peabody Picture Vocabulary Test-III (PPVT-III); and (4) the average number of letters that Even Start children are able to identify as measured by the Uppercase Letter Naming subtask on the PALS Pre-K assessment. All grantees will be expected to submit an annual performance report documenting their success in addressing these performance measures.

VII. Agency Contact

FOR FURTHER INFORMATION CONTACT: Doris Sligh, U.S. Department of Education, 400 Maryland Avenue, SW., room 3W246, Washington, DC 20202-6132. Telephone: (202) 260-0968, or by e-mail: Doris.Sligh@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: February 11, 2005.
Raymond Simon,
Assistant Secretary for Elementary and Secondary Education.

[FR Doc. E5-657 Filed 2-16-05; 8:45 am]

BILLING CODE 4000-01-P